COMMITTEE FOR PURCHASE FROM PEOPLE WHO ARE BLIND OR SEVERELY DISABLED

Procurement List; Deletions

AGENCY: Committee for Purchase From People Who Are Blind or Severely Disabled.

ACTION: Deletions from the procurement list.

SUMMARY: This action deletes products and services from the Procurement List previously furnished by nonprofit agencies employing persons who are blind or have other severe disabilities.

DATES: Date deleted from the Procurement List: November 12, 2017.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Deletions

On 9/8/2017 (82 FR 42546-42547), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN—Product Name: 2910-00-740-9419—Strap, Fuel Tank

Mandatory Source of Supply: Employment Source, Inc., Fayetteville, NC

Contracting Activity: Defense Logistics Agency Land and Maritime

NSNs—Product Names:

8410-01-414-6979—Shirt, Tuck-in, Army, Women's, Short Sleeved, Green, 4 Regular

8410-01-414-6980—Shirt, Tuck-in, Army, Women's, Short Sleeved, Green, 6 Regular

8410-01-414-6981—Shirt, Tuck-in, Army, Women's, Short Sleeved, Green, 8 Regular

8410-01-414-7023—Shirt, Tuck-in, Army, Women's, Short Sleeved, Green, 10 Regular

8410-01-414-7105—Shirt, Tuck-in, Army, Women's, Short Sleeved, Green, 12 Regular

8410-01-414-7113—Shirt, Tuck-in, Army, Women's, Short Sleeved, Green, 14 Regular

8410-01-414-7116—Shirt, Tuck-in, Army, Women's, Short Sleeved, Green, 16 Regular

8410-01-414-7118—Shirt, Tuck-in, Army, Women's, Short Sleeved, Green, 18 Regular

8410-01-414-7120—Shirt, Tuck-in, Army, Women's, Short Sleeved, Green, 20 Regular

8410-01-414-7186—Shirt, Tuck-in, Army, Women's, Short Sleeved, Green, 22 Regular

8410-01-414-7232—Shirt, Tuck-in, Army, Women's, Short Sleeved, Green, 24 Regular

8410-01-414-7233—Shirt, Tuck-in, Army, Women's, Short Sleeved, Green, 26 Regular

Mandatory Source of Supply: Middle Georgia Diversified Industries, Inc., Dublin, GA

Contracting Activity: Defense Logistics Agency Troop Support

NSN—Product Name: 1670-00-805-3522—Strap Set, Webbing

Mandatory Source of Supply: Huntsville Rehabilitation Foundation, Huntsville, AL

Contracting Activity: Defense Logistics Agency Aviation

NSNs—Product Names:

8465-00-001-6487—Belt, Individual Equipment, Olive Drab, Large

8465-00-001-6488—Belt, Individual Equipment, LC-1, Olive Drab, Medium

8465-01-120-0674—Belt, Individual Equipment, USN/USA, LC-2, Olive Drab, Medium

8465-01-120-0675—Belt, Individual Equipment, Olive Drab, Large

Mandatory Source of Supply: Mississippi Industries for the Blind, Jackson, MS

Contracting Activity: Defense Logistics Agency Troop Support

Services

Service Type: Grounds Maintenance Service

Mandatory for: Pennington Memorial U.S. Army Reserve Center: 2164 Harding Highway East, Marion, OH

Mandatory Source of Supply: MARCA Industries, Inc., Marion, OH

Contracting Activity: Dept. of the Army, W6QM MICC Ft McCoy (RC)

Service Type: Mail and Messenger Service

Mandatory for: Headquarters, Naval Facilities Engineering Command (NAVFACENGCOM) Washington, DC

Mandatory Source of Supply: ServiceSource, Inc., Oakton, VA

Contracting Activity: Dept. of the Navy, U.S. Fleet Forces Command

Service Type: Mailroom Operation Service

Mandatory for: Food and Drug Administration: 5100 Paint Branch Parkway, College Park, MD

Mandatory Source of Supply: Linden Resources, Inc., Arlington, VA

Contracting Activity: Dept. of Health And Human Services/Food and Drug Administration

Service Type: Mess Attendant Service

Mandatory for: Willow Grove Naval Air Station Joint Reserve Base: Liberty Dining Hall, Horsham, PA

Mandatory Source of Supply: Occupational Training Center of Burlington County, Burlington, NJ

Contracting Activity: Dept. of the Navy, U.S. Fleet Forces Command

Patricia Briscoe,
Deputy Director, Business Operations, Pricing and Information Management.

[FR Doc. 2017-22190 Filed 10-12-17; 8:45 am]

BILLING CODE 6353-01-P